DEPARTMENT OF LABOR

Employment and Training Administration

[TA-W-65,325]

Amphenol Backplane Systems, Nashua, NH; Notice of Termination of Investigation

Pursuant to Section 221 of the Trade Act of 1974, as amended, an investigation was initiated on February 20, 2009, in response to a petition filed on behalf of workers of Amphenol Backplane Systems, Nashua, New Hampshire.

The petitioner has requested that the petition be withdrawn. Consequently, the investigation has been terminated. Further investigation in this case would serve no purpose.

Signed at Washington, DC, this 11th day of March, 2009.
Elliott S. Kushner,
Certifying Officer, Division of Trade Adjustment Assistance.

[FR Doc. E9-5915 Filed 3-18-09; 8:45 am]

BILLING CODE 4510-FN-P